INTERNATIONAL TRADE COMMISSION

[USITC SE-23-013]

Sunshine Act Meeting

AGENCY HOLDING THE MEETING: United States International Trade Commission.

TIME AND DATE: March 3, 2023 at 11:00 a.m.

PLACE: Room 101, 500 E Street SW, Washington, DC 20436, Telephone: (202) 205-2000.

STATUS: Open to the public.

CONTACT: Sharon Bellamy, 202-205-2595.

MATTERS TO BE CONSIDERED:

1. Agendas for future meetings: none.

2. Minutes.

3. Ratification List.

4. Commission vote on Inv. Nos. 701-TA-685 and 731-TA-1599-1606 (Preliminary) (Tin Mill Products from Canada, China, Germany, Netherlands, South Korea, Taiwan, Turkey, and United Kingdom. The Commission currently is scheduled to complete and file its determinations on March 6, 2023; views of the Commission currently are scheduled to be completed and filed on March 13, 2023.

5. Outstanding action jackets: none.

The Commission is holding this meeting under the Government in the Sunshine Act, 5 U.S.C. 552(b). In accordance with Commission policy, subject matter listed above, not disposed of at the scheduled meeting, may be carried over to the agenda of the following meeting.

By order of the Commission.
Issued: February 16, 2023.
Lisa R. Barton,
Secretary to the Commission.

[FR Doc. 2023-03663 Filed 2-16-23; 4:15 pm]

BILLING CODE 7020-02-P